DEPARTMENT OF VETERANS AFFAIRS

Notice of Availability of a Draft Environmental Impact Statement (EIS) for a Replacement Veterans Affairs Medical Center, Louisville, Kentucky

AGENCY: Department of Veterans Affairs (VA).

ACTION: Notice of availability.

SUMMARY: VA proposes to site, construct and operate a new campus to replace the existing Robley Rex VA Medical Center (VAMC), Veterans Benefits Administration (VBA) regional office, and three community-based outpatient clinics (CBOC) in Louisville, Kentucky. In accordance with the National Environmental Policy Act (NEPA), VA has prepared a Draft EIS that analyzes the potential impacts of three alternatives for the replacement VAMC. The Draft EIS is available for review on the agency Web site and at the St. Matthews and Westport Branches of the Louisville Free Public Library system.

DATES: Interested parties are invited to submit comments in writing on the Replacement Robley Rex VAMC Draft EIS by December 12, 2016.

ADDRESSES: Submit written comments on the Replacement Robley Rex VAMC online at www.Louisville-EIS.com; by email to LouisvilleReplacementHospitalComments@va.gov; or by regular mail to the Replacement VAMC Activation Team Office, 800 Zorn Avenue, Louisville, KY 40206. Please refer to “Replacement Robley Rex VA Medical Center” in any correspondence.

FOR FURTHER INFORMATION CONTACT: Replacement VAMC Activation Team Office, 800 Zorn Avenue, Louisville, KY 40206 or by email to LouisvilleReplacementHospitalComments@va.gov.

SUPPLEMENTARY INFORMATION: VA proposes to site, construct, and operate a VAMC and VBA regional office to replace the existing Robley Rex VAMC located on Zorn Avenue in Louisville, KY. The existing 63-year-old VAMC facilities have reached the end of their serviceable lives and need to be replaced. The existing building conditions and site configuration are inadequate to effectively and efficiently meet the expanding needs of VA's health care mission in the region. The replacement campus would include diagnostic and treatment facilities and required site amenities and improvements needed to provide sufficient capacity to meet the current and projected future health care needs of Veterans in the Louisville service area. This EIS analyzes the potential impacts of three alternatives for the replacement VAMC.

Alternative A proposes construction and operation of a replacement VAMC campus at the Brownsboro Site at 4906 Brownsboro Road, Louisville, KY. Alternative B would construct and operate a replacement VAMC campus at the St. Joseph site on a parcel located east of I-265 and south of Factory Lane in Louisville, KY. Alternative C is the No Action alternative, which is required by NEPA and its regulations and also provides a baseline for comparing potential impacts from the action alternatives.

VA's preferred alternative is Alternative A, the proposed construction and operation of a replacement VAMC campus at the Brownsboro Site at 4906 Brownsboro Road, in Louisville. VA would relocate medical facility operations to the Brownsboro Site from Zorn Avenue and a later process would evaluate the future use or disposition of the Zorn Avenue property.

Environmental topics that are addressed in the Draft EIS include aesthetics, air quality, cultural resources, geology and soils, hydrology and water quality, wildlife and habitat, noise, land use, floodplains and wetlands, socioeconomics, community services, solid waste and hazardous materials, transportation and parking, utilities, and environmental justice. Best management practices and mitigation measures that could alleviate environmental effects have been considered and are included where relevant within the Draft EIS.

The Draft EIS describes mitigation measures for the potential impacts to environmental resources that are identified in the impact analysis. Unavoidable adverse impacts include effects to air quality, aesthetics, noise, land use, solid waste and hazardous materials, utilities, and transportation and traffic. With the exception of aesthetics and land use, implementation of specified mitigation measures would substantially decrease the magnitude of these impacts.

The Replacement Robley Rex VAMC Draft EIS is available for viewing on the VA Web site at www.louisville.va.gov/newmedicalcenter/ and at the St. Matthews and Westport Branches of the Louisville Free Public Library located at 3940 Grandview Avenue, Louisville, KY 40207 and 8100 Westport Road, Louisville, KY 40222, respectively.

Information related to the EIS process is also available for viewing on the VA Web site at www.louisville.va.gov/newmedicalcenter/.

Meetings: Interested parties are invited to participate in any of two public meetings summarizing the results of the Draft EIS. These meetings will be held in Louisville, KY. The dates, times, and locations for these meetings will be published in the Louisville Courier-Journal and online at www.louisville.va.gov/newmedicalcenter/. A court reporter will document comments from participants who wish to submit comments on the Draft EIS verbally instead of (or in addition to) submitting comments in writing as described under the ADDRESSES section above.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on October 21, 2016, for publication.

Dated: October 24, 2016.
Jeffrey Martin,
Office Program Manager, Office of Regulation Policy & Management, Office of the Secretary.

[FR Doc. 2016-25964 Filed 10-26-16; 8:45 am]

BILLING CODE 8320-01-P